NATIONAL FOUNDATION ON THE ARTS AND THE HUMANITIES

National Endowment for the Humanities

Meeting of Humanities Panel

AGENCY: National Endowment for the Humanities; National Foundation on the Arts and the Humanities.

ACTION: Notice of meeting.

SUMMARY: The National Endowment for the Humanities (NEH) will hold thirty-two meetings, by videoconference, of the Humanities Panel, a federal advisory committee, during July 2023. The purpose of the meetings is for panel review, discussion, evaluation, and recommendation of applications for financial assistance under the National Foundation on the Arts and the Humanities Act of 1965.

DATES: See SUPPLEMENTARY INFORMATION for meeting dates. The meetings will open at 8:30 a.m. and will adjourn by 5:00 p.m. on the dates specified below.

FOR FURTHER INFORMATION CONTACT: Elizabeth Voyatzis, Committee Management Officer, 400 7th Street SW, Room 4060, Washington, DC 20506; (202) 606-8322; evoyatzis@neh.gov.

SUPPLEMENTARY INFORMATION: Pursuant to section 10(a)(2) of the Federal Advisory Committee Act (5 U.S.C. 10), notice is hereby given of the following meetings:

1. Date: July 17, 2023

This video meeting will discuss applications on the topics of Arts and Humanities, for the Infrastructure and Capacity Building Challenge Grants program, submitted to the Office of Challenge Programs.

2. Date: July 18, 2023

This video meeting will discuss applications on the topics of Historic Sites and Homes, for the Infrastructure and Capacity Building Challenge Grants program, submitted to the Office of Challenge Programs.

3. Date: July 18, 2023

This video meeting will discuss applications on the topic of Climate Change, for the Cultural and Community Resilience grant program, submitted to the Division of Preservation and Access.

4. Date: July 19, 2023

This video meeting will discuss applications on the topics of History and Culture, for the Infrastructure and Capacity Building Challenge Grants program, submitted to the Office of Challenge Programs.

5. Date: July 19, 2023

This video meeting will discuss applications on the topics of Conservation and Museum Collections, for the Preservation and Access Education and Training grant program, submitted to the Division of Preservation and Access.

6. Date: July 19, 2023

This video meeting will discuss applications on the topic of Arts, for the Awards for Faculty grant program, submitted to the Division of Research Programs.

7. Date: July 20, 2023

This video meeting will discuss applications on the topics of World History and Studies, for the Awards for Faculty grant program, submitted to the Division of Research Programs.

8. Date: July 20, 2023

This video meeting will discuss applications on the topics of American Literature, Language, and Studies, for the Awards for Faculty grant program, submitted to the Division of Research Programs.

9. Date: July 20, 2023

This video meeting will discuss applications for the Fellowships for Advanced Social Science Research on Japan grant program, submitted to the Division of Research Programs.

10. Date: July 20, 2023

This video meeting will discuss applications on the topics of History and Culture, for the Infrastructure and Capacity Building Challenge Grants program, submitted to the Office of Challenge Programs.

11. Date: July 20, 2023

This video meeting will discuss applications on the topic of COVID-19, for the Community and Cultural Resilience grant program, submitted to the Division of Preservation and Access.

12. Date: July 21, 2023

This video meeting will discuss applications on the topics of Educational Institutions and Organizations, for the Infrastructure and Capacity Building Challenge Grants program, submitted to the Office of Challenge Programs.

13. Date: July 21, 2023

This video meeting will discuss applications on the topics of Philosophy, Religion, and Ancient to Early Modern World, for the Awards for Faculty grant program, submitted to the Division of Research Programs.

14. Date: July 21, 2023

This video meeting will discuss applications on the topics of History, Politics, and Social Sciences, for the Awards for Faculty grant program, submitted to the Division of Research Programs.

15. Date: July 24, 2023

This video meeting will discuss applications on the topics of Literature and Cultural Studies, for the Awards for Faculty grant program, submitted to the Division of Research Programs.

16. Date: July 24, 2023

This video meeting will discuss applications on the topics of American History and Studies, for the Awards for Faculty grant program, submitted to the Division of Research Programs.

17. Date: July 24, 2023

This video meeting will discuss applications on the topic of Art Museums, for the Infrastructure and Capacity Building Challenge Grants program, submitted to the Office of Challenge Programs.

18. Date: July 25, 2023

This video meeting will discuss applications on the topics of Libraries and Archives, for the Infrastructure and Capacity Building Challenge Grants program, submitted to the Office of Challenge Programs.

19. Date: July 25, 2023

This video meeting will discuss applications on the topic of U.S. History, for the Fellowships grant program, submitted to the Division of Research Programs.

20. Date: July 26, 2023

This video meeting will discuss applications on the topics of Music, Dance, Theater, and Film Studies, for the Fellowships grant program, submitted to the Division of Research Programs.

21. Date: July 26, 2023

This video meeting will discuss applications on the topics of British and Comparative Literature, for the Fellowships grant program, submitted to the Division of Research Programs.

22. Date: July 26, 2023

This video meeting will discuss applications on the topic of Higher Education, for the Infrastructure and Capacity Building Challenge Grants program, submitted to the Office of Challenge Programs.

23. Date: July 27, 2023

This video meeting will discuss applications on the topics of History and Science, for the Infrastructure and Capacity Building Challenge Grants program, submitted to the Office of Challenge Programs.

24. Date: July 27, 2023

This video meeting will discuss applications on the topic of Digital Preservation, for the Research and Development grant program, submitted to the Division of Preservation and Access.

25. Date: July 27, 2023

This video meeting will discuss applications on the topics of European Studies, Political Science, and Jurisprudence, for the Fellowships grant program, submitted to the Division of Research Programs.

26. Date: July 28, 2023

This video meeting will discuss applications on the topics of History, Health, Science, and Environment, for the Fellowships grant program, submitted to the Division of Research Programs.

27. Date: July 28, 2023

This video meeting will discuss applications on the topics of Asian Studies and Media Studies, for the Fellowships grant program, submitted to the Division of Research Programs.

28. Date: July 28, 2023

This video meeting will discuss applications on the topics of Historic Sites and Homes, for the Infrastructure and Capacity Building Challenge Grants program, submitted to the Office of Challenge Programs.

29. Date: July 31, 2023

This video meeting will discuss applications on the topics of American Literature, Communication, and Rhetoric, for the Fellowships grants program, submitted to the Division of Research Programs.

30. Date: July 31, 2023

This video meeting will discuss applications on the topic of European Studies, for the Fellowships grant program, submitted to the Division of Research Programs.

31. Date: July 31, 2023

This video meeting—the first of two on this date—will discuss applications for the Humanities Initiatives at Colleges and Universities grant program, submitted to the Division of Education Programs.

32. Date: July 31, 2023

This video meeting—the second of two on this date—will discuss applications for the Humanities Initiatives at Colleges and Universities grant program, submitted to the Division of Education Programs.

Because these meetings will include review of personal and/or proprietary financial and commercial information given in confidence to the agency by grant applicants, the meetings will be closed to the public pursuant to sections 552b(c)(4) and 552b(c)(6) of Title 5, U.S.C., as amended. I have made this determination pursuant to the authority granted me by the Chair's Delegation of Authority to Close Advisory Committee Meetings dated April 15, 2016.

Dated: June 8, 2023.
Jessica Graves,
Legal Administrative Specialist, National Endowment for the Humanities.

[FR Doc. 2023-12682 Filed 6-13-23; 8:45 am]

BILLING CODE 7536-01-P